ENVIRONMENTAL PROTECTION AGENCY

[OPP-2003-0324; FRL-7336-3]

Notice of Receipt of Requests to Cancel Certain Creosote and Acid Copper Chromate (ACC) Wood Preservative Products, and/or to Amend to Terminate Certain Uses of Other Creosote Products; Extension of Comment Period

AGENCY: Environmental Protection Agency (EPA).

ACTION: Notice.

SUMMARY: In accordance with section 6(f)(1) of the Federal Insecticide, Fungicide, and Rodenticide Act (FIFRA), as amended, EPA is extending for an additional 30 days the comment period commenced by a September 29, 2003 Notice of Receipt of Requests by registrants of pesticide products containing either Creosote or Acid Copper Chromate (ACC) to voluntarily cancel certain pesticide registrations and/or to amend to terminate certain uses of affected products. Specifically, the five registrants who are members of the Creosote Council III have requested to cancel the registrations for their creosote non-pressure treatment end-use products and/or to amend to terminate all non-pressure treatment uses of other creosote products. These registrants are requesting that these voluntary product cancellations and/or use terminations become effective December 31, 2004. Osmose, Inc., the sole registrant of ACC, is also requesting to immediately cancel the registration for its product with no provision for existing stocks. Neither the registrants of the affected creosote products nor that of the affected ACC product have requested any existing stocks provision, and all registrants waived the 180-day comment period (i.e., any comment period in excess of 30 days). This notice provides an additional 30-day public comment period in response to request for such extension.

DATES: Unless a request is withdrawn by December 26, 2003, or unless the Agency receives substantive comments within this additional comment period that would merit further review of the request, the Agency intends to issue orders granting these requests to cancel certain products, and to amend to terminate certain uses. The Agency will consider withdrawal requests received on or before December 26, 2003. Comments, identified by docket ID number OPP-2003-0324, must be received on or before December 26, 2003.

ADDRESSES: Comments may be submitted electronically, by mail, or through hand delivery/courier. Follow the detailed instructions as provided in Unit I. of the SUPPLEMENTARY INFORMATION

.

FOR FURTHER INFORMATION CONTACT: Bonaventure A. Akinlosotu, Antimicrobials Division (7510C), Office of Pesticide Programs, Environmental Protection Agency, 1200 Pennsylvania Ave., NW., Washington, DC 20460-0001; telephone number: (703) 605-0653; e-mail address: akinlosotu.bonaventure@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket identification (ID) number OPP-2003-0324. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall # 2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and To Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2003-0324. The system is an “anonymous access” system, which means EPA will not know your identity, e-mail address, or other contact information unless you provide it in the body of your comment.

ii. E-mail. Comments may be sent by e-mail to opp-docket@epa.gov, Attention: Docket ID Number OPP-2003-0324. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM. You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2003-0324.

3. By hand delivery or courier. Deliver your comments to: Public Information and Records Integrity Branch (PIRIB), Office of Pesticide Programs (OPP), Environmental Protection Agency, Rm. 119, Crystal Mall #2, 1921 Jefferson Davis Hwy., Arlington, VA, Attention: Docket ID Number OPP-2003-0324. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket ID number in the subject line on the first page of your response. It would also be helpful if you provided the name, date, and Federal Register citation related to your comments.

II. What Action is the Agency Taking?

This notice announces receipt by the Agency of requests from registrants to cancel the registrations of four pesticide products and to amend to terminate certain uses of seven other pesticide products (See Tables 1 and 2), and extends by an additional 30 days the public comment period on requests. In a June 30, 2003 letter, which was received by the Agency on July 14, 2003, Osmose, Inc. requested voluntary cancellation of its ACC product. Similarly, in letters dated September 5, 2003, Coopers Creek Chemical Corporation, KMG-Bernuth, Inc., Koppers, Inc., Railworks Wood Products, and Rutgers Chemicals AG, requested voluntary cancellation of certain creosote end-use products and/or amendments to terminate certain creosote end uses of other creosote end-use products.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless (1) the registrant requests a waiver of the comment period, or (2) the Administrator determines that continued use of the pesticide would pose an unreasonable adverse effect on the environment. The registrants have requested that EPA waive the 180-day comment period. EPA is granting the registrants' request to waive the 180-day comment period. Since publication of the Notice of Receipt on September 29, 2003 (68 FR 55952-55954), the Agency has been requested to extend the public comment period by an additional 30 days. The Agency has considered the request and has no objection to extending the public comment period by an additional 30 days and is doing so by this notice. Accordingly, EPA will provide an additional 30-day public comment period on the requests. EPA anticipates granting the cancellation requests and requests for termination of uses shortly after the end of the additional 30-day comment period for this notice unless the Agency receives substantive comments within the comment period that would merit further review of the request, or unless the subject request for voluntary cancellation and/or use termination is withdrawn as provided herein.

The following products would be affected by the requests for voluntary cancellations:

Table 1.— Requests for Cancellation of Products
Registration No. | Product name | Chemical name
003008-00060 | Osmose ACC 50% Wood Preservative | Chromic acid, Cupric acid
061468-00005 | Coal Tar Creosote | Creosote
073408-00001 | Creosote | Creosote
073408-00002 | Creosote Solution | Creosote

The following creosote/coal tar creosote product uses would be affected by the requests for amendments to terminate non-pressure treatment uses of the products listed in Table 2 below: home and farm use, ground line treatment of utility poles, end cuts, piling applications/repair, pole framing and railroad tie uses/repair.

Table 2.— Request for Amendments to Terminate Non-Pressure Treatment Uses
Registration No. | Product name | Chemical name
000363-00014 | C-4 Brand Black Creosote Coal Tar solution | Creosote
000363-00015 | C-4 Brand Coopersote Creosote Oil | Creosote
061468-00006 | Creosote | Creosote
061470-00001 | KMG-B Coal Tar Creosote | Creosote
061483-0007 | Creosote Oil-24CB | Coal Tar Creosote
061483-0008 | Creosote/Coal Tar solution | Coal Tar Creosote
061483-0009 | Creosote Oil | Coal Tar Creosote

Unless the Agency receives substantive comments within this additional public comment period that would merit further review of the request, or unless a request is withdrawn by the registrant within 30 days of publication of this notice, the Agency intends to issue orders canceling all of these registrations and granting the amendments effecting the use terminations. Users of these pesticides or anyone else desiring the retention of a registration or particular use should contact the applicable registrant directly before the lapse of this 30-day period.

The following Table 3 includes the names and addresses of record for all registrants of the products in Tables 1 and 2, in sequence by EPA company number:

Table 3.—Registrants Requesting Voluntary Cancellation and/or Amendment to Terminate Uses
EPA Company No. | Company name and address
000363 | Coopers Creek Chemical Corp., 884 River Road, West Conshohocken, PA 19428-2699
003008 | Osmose Inc., 980 Ellicott Street, Buffalo, NY 14209-2398
061468 | Koppers Inc., 436 Seventh Avenue, Pittsburgh, PA 15219-1800
061470 | Rutgers Chemicals, 10611 Harwin Drive, Suite 402, Houston, TX 77036
061483 | KMG-Bernuth, Inc., 10611 Harwin Drive, Suite 402, Houston, TX 77036-1534
073408 | Railworks Wood Products, 2525 Prairieton Road, Terre Haute, IN 47802

III. What is the Agency's Authority for Taking this Action?

Section 6(f)(1) of FIFRA provides that a registrant of a pesticide product may at any time request that any of its pesticide registrations be canceled or amended to terminate uses. FIFRA further provides that, before acting on the request, EPA must publish a notice of receipt of any such request in the Federal Register, and provide a 30-day public comment period. Thereafter, the Administrator may approve such a request.

IV. Procedures for Withdrawal of Request

Registrants who choose to withdraw a request for voluntary cancellation or amendment to terminate uses must submit such withdrawal in writing to the person listed under FOR FURTHER INFORMATION CONTACT. The Agency will consider withdrawal requests received on or before December 26, 2003. This written withdrawal of the request for cancellation or amendment to terminate uses will apply only to the applicable FIFRA section 6(f)(1) request listed in this notice. If the product(s) have been subject to a previous cancellation or use termination action, the effective date of cancellation and all other provisions of any earlier cancellation or use termination order are controlling. The withdrawal request must also include a commitment to pay any reregistration fees that are due, and to fulfill any applicable unsatisfied data requirements.

V. Provisions for Disposition of Existing Stocks

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a Special Review action, or where the Agency has identified significant potential risk concerns associated with a particular chemical. This is in accordance with the Agency's statement of policy as set forth in the Federal Register of June 26, 1991 (56 FR 29362) (FRL-3846-4).

1. Creosote. The registrants of affected creosote products have requested that the voluntary product cancellations and/or use terminations become effective December 31, 2004, with no provision for existing stocks.

2. ACC. The effective date of cancellation will be the date of the cancellation order. Osmose stated in its request that its affected product (EPA Reg. No. 3008-60) is no longer being manufactured or distributed by them and that, therefore, there is no need for a time period for the depletion of existing stocks.

List of Subjects

Environmental Protection, Creosote, Acid Copper Chromate, Pesticides and Pests.

Dated: November 20, 2003.
Frank Sanders,
Director, Antimicrobials Division, Office of Pesticide Programs.

[FR Doc. 03-29591 Filed 11-25-03; 8:45 am]

BILLING CODE 6560-50-S